FEDERAL MARITIME COMMISSION

[Petition No. P2-03]

Petition of Sinotrans Container Lines Co., Ltd. (Sinolines) for a Limited Exemption From Section 9(c) of the Shipping Act of 1984, as Amended; Notice of Discontinuance

The Commission has received notice that the Petitioner in this matter is withdrawing its Petition due to changed circumstances. Therefore this proceeding is discontinued.

Karen V. Gregory,
Acting Assistant Secretary.

[FR Doc. 03-21126 Filed 8-18-03; 8:45 am]

BILLING CODE 6730-01-P